DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Permit Family of Forms.

Form Number(s): None.

OMB Approval Number: 0648-0327.

Type of Request: Regular submission.

Burden Hours: 8,571.

Number of Respondents: 40,810.

Average Hours per Response: Initial vessel permit applications other than shark and swordfish, 30 minutes; renewals, 6 minutes; shark and swordfish permit applications, 20 minutes; dealer Atlantic Tunas permits: initial, 15 minutes and renewal, 5 minutes; dealer shark and swordfish and international trade permits, 5 minutes.

Needs and Uses: This information collection, for which renewal is requested, consists of a mandatory vessel permit program for commercial tuna, swordfish and shark fisheries, recreational highly migratory species (HMS) fisheries and charter//headboat HMS fisheries, and mandatory dealer permits for purchase of HMS from vessels and for international trade of several HMS. These permits provide the basis for catch monitoring and collection of catch and effort statistics in these fisheries as required under the Atlantic Tuna Conventions Act and the Magnuson-Stevens Fishery Conservation and Management Act. Such information is essential for the United States to meet its reporting obligations to the International Commission for the Conservation of Atlantic Tunas.

Affected Public: Business or other for-profit organizations.

Frequency: Annually, biweekly and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 18, 2008.
Gwellnar Banks,
Management Analyst, Office of the Chief Information Officer.

[FR Doc. E8-22232 Filed 9-23-08; 8:45 am]

BILLING CODE 3510-22-P